DEPARTMENT OF EDUCATION

National Assessment Governing Board; Meeting

AGENCY: National Assessment Governing Board; Education.

ACTION: Notice of open meeting and partially closed meetings.

SUMMARY: The notice sets forth the schedule and proposed agenda of a forthcoming meeting of the National Assessment Governing Board. This notice also describes the functions of the Board. Notice of this meeting is required under section 10(a)(2) of the Federal Advisory Committee Act. This document is intended to notify members of the general public of their opportunity to attend. Individuals who will need special accommodations in order to attend the meeting (i.e.; interpreting services, assistive listening devices, materials in alternative format) should notify Munira Mwalimu at 202-357-6938 or at Munira.Mwalimu@ed.gov no later than November 3, 2003. We will attempt to meet requests after this date, but cannot guarantee availability of the requested accommodation. The meeting site is accessible to individuals with disabilities.

DATES: November 13-November 15, 2003.

Times:

November 13

Committee Meetings

Assessment Development Committee: Closed Session—12:30 p.m. to 3 p.m.;

Executive Committee: Open Session—4 p.m. to 5 p.m.; Closed Session 5 p.m. to 6 p.m.

November 14

Full Board: Open Session—8:30 a.m. to 10 a.m.

Committee Meetings

Assessment Development Committee: Open Session—10 a.m. to 12 p.m.;

Committee on Standards, Design and Methodology: Open Session—10 a.m. to 12 p.m.;

Reporting and Dissemination Committee: Open Session—10 a.m. to 12 p.m.;

Full Board: Closed Session—12 p.m. to 1:30 p.m.; Open Session—1:30 p.m. to 4:30 p.m.

November 15

Nominations Committee: Open Session—7:45 a.m. to 8:45 a.m.

Full Board: Open Session—9 a.m. to 12 p.m.

Location: Westin Embassy Row, 2100 Massachusetts Avenue NW., Washington, DC 20008.

FOR FURTHER INFORMATION CONTACT: Munira Mwalimu, Operations Officer, National Assessment Governing Board, 800 North Capitol Street, NW., Suite 825, Washington, DC 20002-4233, Telephone: (202) 357-6938.

SUPPLEMENTARY INFORMATION: The National Assessment Governing Board is established under section 412 of the National Education Statistics Act of 1994, as amended.

The Board is established to formulate policy guidelines for the National Assessment of Educational Progress (NAEP). The Board's responsibilities include selecting subject areas to be assessed, developing assessment objectives, developing appropriate student achievement levels for each grade and subject tested, developing guidelines for reporting and disseminating results, and developing standards and procedures for interstate and national comparisons.

On November 13, the Assessment Development Committee will meet in closed session from 12:30 p.m. to 3 p.m. to review secure test items for the National Assessment of Educational Progress (NAEP) 2005 Math Pilot Test. The meeting must be conducted in closed session as disclosure of proposed test items from the 2005 NAEP Math Pilot Test would significantly impede implementation of the NAEP program, and is therefore protected by exemption 9(B) of section 552b(c) of Title 5 U.S.C.

The Executive Committee will meet in open session on November 13 from 4 p.m. to 5 p.m. The committee will then meet in closed session from 5 p.m. to 6 p.m. to discuss independent government cost estimates for contracts related to the National Assessment of Educational Progress (NAEP). This meeting must be conducted in closed session because public disclosure of this information would likely have an adverse financial effect on the NAEP program. The discussion of this information would be likely to significantly impede implementation of a proposed agency action if conducted in open session. Such matters are protected by exemption 9(B) of section 552b(c) of Title 5 U.S.C.

On November 14, the full Board will meet in open session from 8:30 a.m. to 10 a.m. The Board will approve the agenda, introduce new Board members, hear the Executive Director's report, and receive an update on the work of the National Center for Education Statistics (NCES) from the Associate Commissioner of NCES, Val Plisko.

From 10 a.m. to 12 p.m. on November 14, the Board's standing committees—the assessment Development Committee; the Committee on Standards, Design, and Methodology; and the Reporting and Dissemination Committee—will meet in open session.

The full Board will meet in closed session on November 14, 2003 from 12 p.m. to 1:30 p.m. to receive to receive independent cost estimates for contracts related to the National Assessment of Educational Progress (NAEP). This part of the meeting must be conducted in closed session because public disclosure of this information would likely have an adverse financial effect on the NAEP program. The discussion of this information would be likely to significantly impede implementation of a proposed agency action if conducted in open session. Such matters are protected by exemption 9(B) of section 552b(c) of Title 5 U.S.C.

The full Board will meet in open session on November 14 to receive an update on the 2009 NAEP Reading Framework Project at 1:30 p.m. followed by an update on the NAEP 12th Grade Commission by former vice Board Chair Michael Nettles from 2:45 p.m. to 3:30 p.m. This presentation will be followed by a briefing on the Grade 12 Mathematics achievement Levels contract from 3:30 p.m. to 4 p.m. Board members will receive Ethics Training from staff of the Office of General Counsel from 4 p.m. to 4:30 p.m., after which the November 14 session of the Board meeting will adjourn.

On November 15, the Nominations Committee will meet in open session from 7:45 a.m. to 8:45 a.m. Thereafter, the full Board will meet in open session from 9 a.m. to 12 p.m. The Board will discuss NAEP reports from 9 a.m. to 10 a.m. Board actions on policies and Committee reports are scheduled to take place between 10 a.m. and 12 p.m., when the November 15, 2003 session of the Board meeting will adjourn.

A final agenda of the November 13-15, 2003 Board meeting can be accessed after November 3, 2003 at http://www.nagb.org. Detailed minutes of the meeting, including summaries of the activities of the closed sessions and related matters that are informative to the public and consistent with the policy of section 5 U.S.C. 552b(c) will be available to the public within 14 days of the meeting. Records are kept of all Board proceedings and are available for public inspection at the U.S. Department of Education, National Assessment Governing Board, Suite #825, 800 North Capitol Street, NW, Washington, DC, from 9 a.m. to 5 p.m. Eastern Standard Time.

Dated: October 20, 2003.
Charles E. Smith,
Executive Director, National Assessment Governing Board.

[FR Doc. 03-26718 Filed 10-22-03; 8:45 am]

BILLING CODE 400-01-M